DEPARTMENT OF COMMERCE

National Institute of Standards and Technology

Prospective Grant of Exclusive Patent License

AGENCY: National Institute of Standards and Technology, Commerce.

ACTION: Notice of prospective grant of exclusive patent license.

SUMMARY: This is a notice in accordance with 35 U.S.C. 209(c)(1) and 37 CFR 404.7(a)(1)(i) that the National Institute of Standards and Technology (“NIST”), U.S. Department of Commerce, is contemplating the grant of an exclusive license in the United States of America, its territories, possessions and commonwealths, to NIST's interest in the invention embodied in U.S. Patent No. 6,015,714 (Application No. 09/098,142), titled, “Characterization Of Individual Polymer Molecules Based On Monomer-Interface Interactions,” filed June 16, 1998; NIST Docket No. 95-040CIP, to the President and Fellows of Harvard College, 1350 Massachusetts Avenue, Holyoke Center, Suite 727, Cambridge, MA 02138. The grant of the license would be for all fields of use.

FOR FURTHER INFORMATION CONTACT: J. Terry Lynch, National Institute of Standards and Technology, Office of Technology Partnerships, 100 Bureau Drive, Stop 2200, Gaithersburg, MD 20899.

SUPPLEMENTARY INFORMATION: The prospective exclusive license will be royalty sharing and will comply with the terms and conditions of 35 U.S.C. 209 and 37 CFR 404.7. The prospective exclusive license may be granted unless, within sixty days from the date of this published Notice, NIST receives written evidence and argument which establish that the grant of the license would not be consistent with the requirements of 35 U.S.C. 209 and 37 CFR 404.7. The availability of the invention for licensing was published in the Federal Register, Vol. 67, No. 19 (January 29, 2002).

U.S. Patent No. 6,015,714 is a joint invention between Harvard, NIST, and the University of California. NIST's interest in the invention is owned by the U.S. government, as represented by the Secretary of Commerce. The present invention relates to a method for sequencing a nucleic acid polymer by (1) providing two separate, adjacent pools of a medium and an interface between the two pools, the interface having a channel so dimensioned as to allow sequential monomer-by-monomer passage from one pool to the other pool of only one nucleic acid polymer at a time; (2) placing the nucleic acid polymer to be sequenced in one of the two pools; and (3) taking measurements as each of the nucleotide monomers of the nucleic acid polymer passes through the channel so as to sequence the nucleic acid polymer.

Dated: April 30, 2002.
Karen H. Brown,
Deputy Director.

[FR Doc. 02-11306 Filed 5-6-02; 8:45 am]

BILLING CODE 3510-13-P